ENVIRONMENTAL PROTECTION AGENCY

40 CFR Parts 60, 61, and 63

[EPA-R06-OAR-2016-0091; FRL-9978-89-Region 6]

New Source Performance Standards and National Emission Standards for Hazardous Air Pollutants; Delegation of Authority to New Mexico

AGENCY: Environmental Protection Agency (EPA).

ACTION: Withdrawal of direct final rule.

SUMMARY: On April 13, 2018, the Environmental Protection Agency (EPA) published a direct final rule approving the updated delegation of EPA authority for implementation and enforcement of certain New Source Performance Standards (NSPS) and National Emission Standards for Hazardous Air Pollutants (NESHAPs) for all sources (both part 70 and non-part 70 sources) to the New Mexico Environmental Department (NMED). EPA stated in the direct final rule that if EPA received relevant adverse comments by May 14, 2018, EPA would publish a timely withdrawal in the Federal Register. EPA received an adverse comment on May 14, 2018, and accordingly is withdrawing the direct final rule.

DATES: The direct final rule published on April 13, 2018 (83 FR 15964), is withdrawn effective June 5, 2018.

FOR FURTHER INFORMATION CONTACT: Mr. Rick Barrett, (214) 665-7227, barrett.richard@epa.gov.

SUPPLEMENTARY INFORMATION: On April 13, 2018, EPA published a direct final rule approving the updated delegation of authority for implementation and enforcement of NSPS and NESHAPs for all sources (both part 70 and non-part 70 sources) to the NMED. The direct final rule was published without prior proposal because EPA anticipated no relevant adverse comments. EPA stated in the direct final rule that if relevant adverse comments were received by May 14, 2018, EPA would publish a timely withdrawal in the Federal Register. EPA received an adverse comment on May 14, 2018. Accordingly, EPA is withdrawing the direct final rule. In a separate subsequent final action EPA will address the comment received. The withdrawal is being taken pursuant to sections 111 and112 of the CAA.

List of Subjects

40 CFR Part 60

Environmental protection, Administrative practice and procedure, Air pollution control, Intergovernmental relations, Reporting and recordkeeping requirements.

40 CFR Part 61

Environmental protection, Administrative practice and procedure, Air pollution control, Arsenic, Benzene, Beryllium, Hazardous substances, Intergovernmental relations, Mercury, Reporting and recordkeeping requirements, Vinyl chloride.

40 CFR Part 63

Environmental protection, Administrative practice and procedure, Air pollution control, Hazardous substances, Intergovernmental relations, Reporting and recordkeeping requirements.

Dated: May 30, 2018.
Wren Stenger,
Director, Multimedia Division, Region 6.

Accordingly, the direct final rule published in the Federal Register on April 13, 2018 (83 FR 15964), amending 40 CFR 60.4, 40 CFR 61.04, and 40 CFR 63.99, which was to become effective on June 12, 2018, is withdrawn.

[FR Doc. 2018-12013 Filed 6-4-18; 8:45 am]

BILLING CODE 6560-50-P